DEPARTMENT OF ENERGY

Federal Energy Regulatory Commission

[Docket No. IC07-2A-000; FERC Form 2A]

Commission Information Collection Activities, Proposed Collection; Comment Request; Extension

December 27, 2006.

AGENCY: Federal Energy Regulatory Commission.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due March 9, 2007.

ADDRESSES: Copies of sample filings of the proposed collection of information can be obtained from the Commission's Web site (http://www.ferc.gov/docs-filings/elibrary.asp) or from the Federal Energy Regulatory Commission, Attn: Michael Miller, Office of the Executive Director, ED-34, 888 First Street, NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC07-2A-000.

Documents filed electronically via the Internet must be prepared in WordPerfect, MS Word, Portable Document Format, or ASCII format. To file the document, access the Commission's Web site at http://www.ferc.gov and click on “Make an E-filing”, and then follow the instructions for each screen. First time users will have to establish a user name and password. The Commission will send an automatic acknowledgement to the sender's e-mail address upon receipt of comments.

All comments may be viewed, printed or downloaded remotely via the Internet through FERC's homepage using the eLibrary link. For user assistance, contact FERCOlineSupport@ferc.gov or toll-free at (866) 208-3676. or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC Form 2A “Annual Report of Nonmajor Natural Gas Companies” (OMB No. 1902-0030) is used by the Commission to carry out its responsibilities in implementing the statutory provisions of the Natural Gas Act (NGA) 15 U.S.C. 717. The FERC Form 2 is a financial and operating report for natural gas rate regulation for major pipeline owners. A “nonmajor” pipeline owner is one that has combined gas sales for resale and has gas transported or stored for a fee that exceeds 200,000 Dth but which is less than 50 million Dth, in each of the three previous calendar years. Under the Form 2-A, the Commission investigates, collects and records data, and prescribes rules and regulations concerning accounts, records and memoranda as necessary to administer the NGA. The Commission is empowered to prescribe a system of accounts for jurisdictional gas pipelines and after notice and opportunity for hearing, may determine the accounts in which particular outlays and receipts will be entered, charged or credited.

FERC staff uses the data in the continuous review of the financial condition of jurisdictional companies, in various rate proceedings and in the Commission's audit program.

The annual financial information filed with the Commission is a mandatory requirement submitted in a prescribed format which is filed electronically and on paper. The Commission implements these filing requirements in 18 CFR Parts 158, 201, 260.2 and 385.2011.

Action: The Commission is requesting a three-year extension of the current expiration date, with no changes to the existing collection of data.

Burden Statement: Public reporting burden for this collection is estimated as:

Number of respondents annually | Number of responses per respondent | Average burden hours per response | Total annual burden hours
(1) | (2) | (3) | (1)x(2)x(3)
41 | 1 | 115 | 4,715

Estimated cost burden to respondents is $276,863. (4,715 hours/2080 hours per year times $122,137 per year average per employee = $ 276,863). The cost per respondent is $ 6,753) (rounded off).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology.

Magalie R. Salas,
Secretary.

[FR Doc. E6-22665 Filed 1-5-07; 8:45 am]

BILLING CODE 6717-01-P